DEPARTMENT OF EDUCATION

Tests Determined To Be Suitable for Use in the National Reporting System for Adult Education

AGENCY: Office of Career, Technical, and Adult Education, Department of Education.

ACTION: Notice.

SUMMARY: The Secretary announces tests, test forms, and delivery formats that the Secretary determines to be suitable for use in the National Reporting System for Adult Education (NRS). This notice relates to the approved information collections under OMB control numbers 1830-0027 and 1830-0567.

FOR FURTHER INFORMATION CONTACT: John LeMaster, Department of Education, 400 Maryland Avenue SW, Room 10-223, Potomac Center Plaza, Washington, DC 20202-7240. Telephone: (202) 245-6218. Email: John.LeMaster@ed.gov.

If you are deaf, hard of hearing, or have a speech disability and wish to access telecommunications relay services, please dial 7-1-1.

SUPPLEMENTARY INFORMATION: On January 14, 2008, and as amended on August 19, 2016, we published in the Federal Register final regulations for 34 CFR part 462, Measuring Educational Gain in the National Reporting System for Adult Education (NRS regulations) (73 FR 2305, January 14, 2008, as amended at 81 FR 55552, August 19, 2016). The NRS regulations established the process the Secretary uses to determine the suitability of tests for use in the NRS by States and local eligible providers. We annually publish in the Federal Register, and post on the internet at www.nrsweb.org, a list of the names of tests and the educational functioning levels the tests are suitable to measure in the NRS as required by § 462.12(c)(2).

On August 7, 2020, the Secretary published in the Federal Register (85 FR 47952) an annual notice consolidating information from previous notices that announced tests determined to be suitable for use in the NRS, in accordance with § 462.13 (August 2020 notice). Also, in the August 2020 notice, the Secretary announced that ESL tests and test forms approved for an extended period through February 2, 2021, are approved for an additional extended period through February 2, 2023, and that an Adult Basic Education (ABE) test and test forms previously approved for a three-year period through March 7, 2021, are approved for an extended period through March 7, 2023.

On December 6, 2021, the Secretary published in the Federal Register (86 FR 69021), an annual notice with the same list of approved tests and test forms as was published in the August 2020 notice (December 2021 notice).

On September 23, 2022, the Secretary published in the Federal Register (87 FR 58078) an annual notice announcing that English as a Second Language (ESL) tests and test forms previously approved for an extended period through February 2, 2023, are approved for an additional extended period through February 2, 2024, and that an ABE test and test forms previously approved for an extended period through March 7, 2023, are approved for an additional extended period through March 7, 2024.

In this notice, the Secretary announces new tests that have been determined to be suitable for use in the NRS, in accordance with § 462.13. Three tests measure the NRS educational functioning levels for ABE at the ABE levels specified in this notice, and four tests measure the new NRS educational functioning levels for ESL at the ESL levels specified in this notice. With the Secretary's approval of the new ESL tests in this notice, the new educational functioning levels for ESL described in Appendix A of Measures and Methods for the National Reporting System for Adult Education (OMB Control Number: 1830-0027) are now implemented.

The new tests announced in this notice have been determined to be suitable for use in the NRS for a period of either seven or three years. A seven-year approval requires no additional action on the part of the publisher, unless the Department later determines that the information the publisher submitted as a basis for the Secretary's review was inaccurate or that the test has been substantially revised. A three-year approval is issued with a set of conditions that must be met by the completion of the three-year time period. If these conditions are met, the test is approved for continued use in the NRS. If these conditions are not met, the test will not be approved for continued use in the NRS.

Under the transition rules in § 462.4, the Secretary also announces in this notice a list of tests with NRS approvals expiring on February 2, 2024, and March 7, 2024, which States and local eligible providers may continue to use during a sunset period ending on June 30, 2024. The ESL educational functioning level descriptors to which the ESL tests with expiring NRS approvals are aligned will be retired on June 30, 2024. Until that time, for the program year which begins on July 1, 2023, and ends on June 30, 2024, both the current ESL educational functioning level descriptors and the new ESL educational functioning level descriptors will be in effect. States must use an ESL assessment that is aligned to the appropriate ESL educational functioning level descriptors.

Adult education programs must use only the forms and computer-based delivery formats for the tests approved in this notice. If a particular test form or computer delivery format is not explicitly specified for a test in this notice, it is not approved to measure educational gain in the NRS.

TESTS DETERMINED TO BE SUITABLE FOR USE IN THE NRS FOR A SEVEN-YEAR PERIOD FROM THE PUBLICATION DATE OF THIS NOTICE:

The Secretary has determined that the following test is suitable for use in Mathematics at all ABE levels of the NRS for a period of seven years from the publication date of this notice:

Comprehensive Adult Student Assessment System (CASAS) Math GOALS Series. Forms 921/922, 923/924, 925/926, 927/928, and 929/930 are approved for use on paper and through a computer-based delivery format. Publisher: CASAS, 5151 Murphy Canyon Road, Suite 220, San Diego, CA 92123-4339. Telephone: (800) 255-1036. Internet: www.casas.org/.

The Secretary has determined that the following tests are suitable for use at all ESL levels of the NRS for a period of seven years from the publication date of this notice:

(1) Basic English Skills Test (BEST) Plus 3.0. Forms 1 and 2 are approved for use on paper and through a computer-based delivery format with adaptive (Part A) and fixed form (Part B) sections. Publisher: Center for Applied Linguistics, 4646 40th Street NW, Washington, DC 20016-1859. Telephone: (202) 362-0700. Internet: www.cal.org.

(2) Comprehensive Adult Student Assessment System (CASAS) Listening STEPS. The Locator Test and Forms 621/622, 623/624, 625/626, 627/628, and 629/630 are approved for use through paper-based testing and CDs, and through a computer-based delivery format. Publisher: CASAS, 5151 Murphy Canyon Road, Suite 220, San Diego, CA 92123-4339. Telephone: (800) 255-1036. Internet: www.casas.org/.

(3) Comprehensive Adult Student Assessment System (CASAS) Reading STEPS. The Locator Test and Forms 621/622, 623/624, 625/626, 627/628, and 629/630 are approved for use through paper-based testing and through a computer-based delivery format. Publisher: CASAS, 5151 Murphy Canyon Road, Suite 220, San Diego, CA 92123-4339. Telephone: (800) 255-1036. Internet: www.casas.org/.

The Secretary has determined that the following test is suitable for use at ESL levels 1 through 4 of the NRS for a period of seven years from the publication date of this notice:

Basic English Skills Test (BEST) Literacy 2.0. Forms 1, 2, and 3 are approved for use in paper delivery format. Publisher: Center for Applied Linguistics, 4646 40th Street NW, Washington, DC 20016-1859. Telephone: (202) 362-0700. Internet: www.cal.org.

TESTS DETERMINED TO BE SUITABLE FOR USE IN THE NRS FOR A THREE-YEAR PERIOD FROM THE PUBLICATION DATE OF THIS NOTICE:

The Secretary has determined that the following test is suitable for use in Mathematics at all ABE levels of the NRS for a period of three years from the publication date of this notice:

ACT WorkKeys Applied Math. Forms 014, 015, 016, and 017 are approved for use on paper and through a computer-based delivery format. Publisher: ACT, 500 ACT Drive, Iowa City, Iowa 52243-0168. Telephone: (319) 337-1270. Internet: www.act.org.

The Secretary has determined that the following test is suitable for use in Literacy/English Language Arts at ABE levels 2 through 6 of the NRS for a period of three years from the publication date of this notice:

ACT WorkKeys Workplace Documents. Forms 018, 019, 020, and 021 are approved for use on paper and through a computer-based delivery format. Publisher: ACT, 500 ACT Drive, Iowa City, Iowa 52243-0168. Telephone: (319) 337-1270. Internet: www.act.org.

TESTS WITH NRS APPROVALS EXPIRING ON FEBRUARY 2, 2024, THAT MAY BE USED IN THE NRS DURING A SUNSET PERIOD ENDING ON JUNE 30, 2024:

The Secretary has determined that the following tests may be used at all ESL levels of the NRS during a sunset period ending on Jun 30, 2024:

(1) Basic English Skills Test (BEST) Literacy. Forms B, C, and D are approved for use on paper. Publisher: Center for Applied Linguistics, 4646 40th Street NW, Washington, DC 20016-1859. Telephone: (202) 362-0700. Internet: www.cal.org.

(2) Basic English Skills Test (BEST) Plus 2.0. Forms D, E, and F are approved for use on paper and through the computer-adaptive delivery format. Publisher: Center for Applied Linguistics, 4646 40th Street NW, Washington, DC 20016-1859. Telephone: (202) 362-0700. Internet: www.cal.org.

(3) Comprehensive Adult Student Assessment Systems (CASAS) Life and Work Listening Assessments (LW Listening). Forms 981L, 982L, 983L, 984L, 985L, and 986L are approved for use on paper and through the computer-based delivery format. Publisher: CASAS, 5151 Murphy Canyon Road, Suite 220, San Diego, CA 92123-4339. Telephone: (800) 255-1036. Internet: www.casas.org.

(4) Comprehensive Adult Student Assessment Systems (CASAS) Reading Assessments (Life and Work, Life Skills, Reading for Citizenship, Reading for Language Arts—Secondary Level). Forms 27, 28, 81, 82, 81X, 82X, 83, 84, 85, 86, 185, 186, 187, 188, 310, 311, 513, 514, 951, 952, 951X, and 952X of this test are approved for use on paper and through the computer-based delivery format. Publisher: CASAS, 5151 Murphy Canyon Road, Suite 220, San Diego, CA 92123-4339. Telephone: (800) 255-1036. Internet: www.casas.org.

(5) Tests of Adult Basic Education Complete Language Assessment System-English (TABE/CLAS-E). Forms A and B are approved for use on paper and through a computer-based delivery format. Publisher: Data Recognition Corporation—CTB, 13490 Bass Lake Road, Maple Grove, MN 55311. Telephone: (800) 538-9547. Internet: www.tabetest.com.

TEST WITH NRS APPROVAL EXPIRING ON MARCH 7, 2024, THAT MAY BE USED IN THE NRS DURING A SUNSET PERIOD ENDING ON JUNE 30, 2024:

The Secretary has determined that the following test may be used in Mathematics at all ABE levels of the NRS during a sunset period ending on June 30, 2024:

Comprehensive Adult Student Assessment System (CASAS) Math GOALS Series. Forms 900, 913, 914, 917, and 918 are approved for use on paper and through a computer-based delivery format. Publisher: CASAS, 5151 Murphy Canyon Road, Suite 220, San Diego, CA 92123-4339. Telephone: (800) 255-1036. Internet: www.casas.org/.

REVOCATION OF TESTS:

Under certain circumstances—i.e., a determination by the Secretary either that the information the publisher submitted as a basis for the Secretary's review of the test was inaccurate or that a test has been substantially revised—the Secretary may revoke the determination that a test is suitable after following the procedures in § 462.12(e). If the Secretary revokes the determination of suitability, the Secretary announces the revocation, as well as the date by which States and local eligible providers must stop using the revoked test, through a notice published in the Federal Register and posted on the internet at www.nrsweb.org.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Program Authority: 29 U.S.C. 3292.

Amy Loyd,
Assistant Secretary for Career, Technical, and Adult Education.

[FR Doc. 2023-14825 Filed 7-12-23; 8:45 am]

BILLING CODE 4000-01-P